DEPARTMENT OF JUSTICE

Notice of Lodging Proposed Stipulation and Order

In accordance with Departmental Policy, 28 CFR 50.7, notice is hereby given that a proposed Stipulation and Order in United States, et al. v. NSTAR Electric Co. d/b/a Eversource Energy, Harbor Electric Energy Co., and Massachusetts Water Resources Authority, Civil Action No. 16-11470-RGS, was lodged with the United States District Court for the District of Massachusetts on May 23, 2017.

This proposed Stipulation and Order concerns a complaint filed by the United States against Defendants NSTAR Electric Co. d/b/a Eversource Energy, Harbor Electric Energy Co., and the Massachusetts Water Resources Authority, for violations of Section 10 of the Rivers and Harbors Act of 1899, 33 U.S.C. 403, and Section 404(s) of the Clean Water Act, 33 U.S.C. 1344(s). The complaint seeks injunctive relief from, and civil penalties against, the Defendants for violating a permit issued in 1989 by the United States Army Corps of Engineers pursuant to the above statutes. The permit allowed a submarine cable to be installed across Boston Harbor, from an electrical substation in South Boston to Deer Island. The complaint alleges that the Defendants are the permittees or successors-in-interest to the permittees. Also, the complaint alleges that, within two federal channels, the Reserved Channel and the Main Ship Channel, the Defendants laid the cable at shallower depths than what the permit required. The proposed Stipulation and Order resolves these allegations by requiring the Defendants to lay a new cable from South Boston to Deer Island and then remove, or partly remove and partly abandon, the existing cable.

The Department of Justice will accept written comments relating to this proposed Stipulation and Order for thirty (30) days from the date of publication of this Notice. Please address comments to Christine Wichers, Assistant United States Attorney, United States Attorney's Office, One Courthouse Way, Suite 9200, Boston, MA 02210, and refer to United States, et al. v. NSTAR Electric Co. d/b/a Eversource Energy, Harbor Electric Energy Co., and Massachusetts Water Resources Authority, DJ # 90-5-1-1-20730.

The proposed Stipulation and Order may be examined at the Clerk's Office, United States District Court for the District of Massachusetts, One Courthouse Way, Suite 2300, Boston, MA 02210. In addition, the proposed Stipulation and Order may be examined electronically at http://www.justice.gov/enrd/consent-decrees.

Cherie L. Rogers,
Assistant Section Chief, Environmental Defense Section, Environment and Natural Resources Division.

[FR Doc. 2017-11032 Filed 5-26-17; 8:45 am]

BILLING CODE 4410-15-P